ENVIRONMENTAL PROTECTION AGENCY

40 CFR Part 141

[FRL-7472-5]

Minor Clarification of National Primary Drinking Water Regulation for Arsenic

AGENCY: Environmental Protection Agency (EPA).

ACTION: Final rule.

SUMMARY: Today, EPA is revising the rule text in its January 2001 final rule that established the 10 parts per billion arsenic drinking water standard to express the standard as 0.010 mg/L, in order to clarify the implementation of the original rule.

DATES: This regulation is effective April 24, 2003. For purposes of judicial review, this final rule is promulgated as of 1 p.m. Eastern Time on March 25, 2003.

ADDRESSES: The official public docket for this rule is located at EPA's Water Docket, in the EPA Docket Center (EPA/DC), EPA West, Rm B102, 1301 Constitution Avenue, NW., Washington, DC.

FOR FURTHER INFORMATION CONTACT: For general information contact the EPA Safe Drinking Water Hotline at (800) 426-4791. The Hotline operates Monday through Friday, excluding Federal holidays, from 9 a.m. to 5:30 p.m. ET. For technical information contact, Richard Reding, Office of Ground Water and Drinking Water (MC-4607M), U.S. Environmental Protection Agency, 1200 Pennsylvania Avenue, NW., Washington DC 20460, (202) 564-4656, email: Reding.Richard@epa.gov.

SUPPLEMENTARY INFORMATION:

I. General Information

A. Who Is Regulated by This Action?

Entities potentially regulated by this regulation are public water systems (PWSs). All community and non-transient non-community water systems must comply with the revised arsenic drinking water standard beginning on January 23, 2006. A community water system (CWS) means a public water system which serves at least 15 service connections used by year-round residents or regularly serves at least 25 year-round residents. Non-transient non-community water system (NTNCWS) means a public water system that is not a community water system and that regularly serves at least 25 of the same persons over 6 months per year. Primacy States are required to revise their programs to adopt the new arsenic standard by January 22, 2003 (unless an extension has been granted). Categories and entities potentially regulated by this action include the following:

Category | Examples of potentially regulated entities
State, Tribal and Local Government | State, Tribal or local government-owned/operated water supply systems using ground water, surface water or mixed ground water and surface water.
Federal Government | Federally owned/operated community water supply systems using ground water, surface water or mixed ground water and surface water.
Industry | Privately owned/operated community water supply systems using ground water, surface water or mixed ground water and surface water.

This table is not intended to be exhaustive, but rather provides a guide for readers regarding entities likely to be regulated by this action. This table lists the types of entities that EPA is now aware could potentially be regulated by this action. Other types of entities not listed in the table could also be regulated. To determine whether your facility is regulated by this action, you should carefully examine the applicability criteria in §§ 141.11 and 141.62 of title 40 of the Code of Federal Regulations. If you have questions regarding the applicability of this action to a particular entity, consult the person listed in the preceding FOR FURTHER INFORMATION CONTACT section.

B. How Can I Get Copies of This Document and Other Related Information?

1. Docket. EPA has established an official public docket for this action under Docket ID No. OW-2002-0057. The official public docket consists of the documents specifically referenced in this action, any public comments received, and other information related to this action. Although a part of the official docket, the public docket does not include Confidential Business Information (CBI) or other information whose disclosure is restricted by statute. The official public docket is the collection of materials that is available for public viewing at the Water Docket in the EPA Docket Center, (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Water Docket is (202) 566-2426. For access to docket material, please call (202) 566-2426 to schedule an appointment.

2. Electronic Access. You may access this Federal Register document electronically through the EPA Internet under the “Federal Register” listings at http://www.epa.gov/fedrgstr/.

An e lectronic version of the public docket is available through EPA's electronic public docket and comment system, EPA Dockets. You may use EPA Dockets at http://www.epa.gov/edocket/ to view public comments, to access the index listing of the contents of the official public docket, and to access those documents in the public docket that are available electronically. Although not all docket materials may be available electronically, you may still access any of the publicly available docket materials through the docket facility identified in section I.B.1. Once in the system, select “search,” then key in the appropriate docket identification number.

II. What is EPA's Statutory Authority for This Final Rule?

SDWA section 1412(b)(12)(A) required EPA to publish a revised arsenic standard. On January 22, 2001, EPA published a final rule revising the existing arsenic drinking water standard from 50 parts per billion (ppb) to 10 ppb, with a compliance date of January 23, 2006 (66 FR 6976-7066). Under EPA's regulations at 40 CFR 142.12, States that wish to maintain primary enforcement responsibility for drinking water standards must revise their programs to adopt new or revised Federal regulations. Today's final rule clarifies one issue raised by stakeholders concerning the standard published in January 2001.

III. What Is EPA Doing Today?

Today, EPA is revising the rule text to express the new arsenic maximum contaminant level (MCL) as 0.010 mg/L instead of 0.01 mg/L. EPA is making this minor regulatory amendment in response to a concern raised by a number of States and other stakeholders that State laws adopting the Federal arsenic standard as 0.01 mg/L might allow rounding of monitoring results above 0.01 mg/L so that the effective standard (in consideration of rounding of results) would be 0.014 mg/L (or 14 ppb), not 0.010 mg/L (10 ppb). These States and other stakeholders suggested that the rule text be revised to clarify the rounding issue and avoid the potential for confusion about how to evaluate compliance monitoring results that are greater than 10 ppb. In response, EPA solicited public comment on today's amendment in a proposed rulemaking that was published on December 23, 2002 (67 FR 78203). Although EPA considers this amendment to be a minor clarification of the intent of the January 2001 rule, EPA chose to conduct a formal rulemaking to provide a full opportunity for public comment with respect to the rounding issue.

IV. Summary of Public Comments on Today's Regulatory Change

The comment period on the December 2002 proposed rule closed on January 22, 2003. Most commenters strongly supported today's action; other commenters indicated a concern. A summary of these comments follows. The comments and EPA's responses are included in the Docket for today's final rule.

In expressing support for making today's clarification, some commenters requested extensions of the compliance deadlines that were specified in the January 2001 rule. EPA does not agree that an extension of the compliance deadline is necessary or appropriate. The EPA Administrator is firmly committed to maintaining the January 23, 2006, compliance date for a new arsenic standard (66 FR 20581, April 23, 2001). EPA also has been clear that the 2006 compliance deadline applies to all systems with arsenic levels above 10 ppb. As noted in the December 2002 proposal to clarify the rule text, every aspect of the existing final rule and all analyses supporting the rule establish 10 ppb as the new arsenic standard. In addition, EPA made clear in several contexts that rounding down monitoring results in the range of 11 to 14 ppb to 10 ppb was not allowed under the rule (e.g., in a guidance memorandum (EPA 2002a), in EPA's document “Implementation Guidance for the Arsenic Rule” (EPA 2002b), and in the training conducted by EPA (EPA 2002c) on the rule since its issuance). For systems that may need additional time to come into compliance with the rule for cost or technical reasons, there is an exemption process under SDWA section 1416 under which eligible systems may receive additional time, if necessary. This process was fully addressed in the January 22, 2001, rule (66 FR 6988).

In expressing support for making today's clarification, some commenters also requested extensions of the deadlines to submit revised arsenic primacy packages that were specified in the January 2001 rule. With respect to the deadline for States or Tribes to submit primacy revision packages, because the Agency has been clear that no rounding is permitted under the Federal rule, State programs that allow systems to round compliance monitoring results that are greater than 10 ppb down to 10 ppb will not be approved. The provisions in 40 CFR 142.12, for EPA (at the EPA regional office level) to grant extensions of the two-year period for adoption of the revised arsenic regulation as appropriate on a case-by-case basis, are sufficient to accommodate the commenters' requests for additional time for submission or revision of primacy packages. EPA notes that States routinely request and receive extensions of their primacy deadline.

One commenter believes that State and local governments should have maximum flexibility in implementing Federal regulatory requirements. The commenter does not support today's clarification because it limits the ability of State and local governments to mitigate adverse financial effects of the arsenic standard, especially for rural or low income systems. The commenter suggested States should have the flexibility to use public education at systems where arsenic levels are between 10 and 14 ppb instead of requiring compliance at 10 ppb. However, EPA does not agree that the final arsenic rule, as promulgated in January 2001, would allow the use of public education rather than compliance with the 10 ppb standard at any system where arsenic levels exceed the 10 ppb standard and are between 10 and 14 ppb. As EPA discussed in the January 22, 2001, preamble, EPA is aware of the impact that the new arsenic standard will have on certain systems. As discussed in the January 2001 final rule (67 FR 6992), the Agency is implementing many financial and technical assistance actions to mitigate this impact with an emphasis on assisting small systems. In addition, EPA notes that there are certain flexibilities already built into the statutory and regulatory structure. For example, the final arsenic rule discusses the flexibility for small systems to receive an extension of up to nine years to comply with the new arsenic standard through the exemption process provided in SDWA section 1416.

One commenter submitted comments that were not relevant to the December 2002 proposal to revise the arsenic rule text to express the 10 ppb standard as 0.010 mg/L instead of 0.01 mg/L. EPA is not addressing these comments because, in the December 2002 proposal, EPA clearly informed readers that EPA was not requesting and would not respond to comment on any other issue associated with the arsenic standard or its implementation. As noted in the December 2002 proposal and in the April 17, 2002, (67 FR 19037) announcement of the preliminary results of EPA's review of existing drinking water standards, EPA will continue to evaluate the expert analysis, the public comment received after publication of the final rule, and other relevant information on the arsenic drinking water standard, as part of the next six-year review of drinking water standards, which is to be completed in August of 2008.

V. Administrative Requirements

A. Executive Order 12866: Regulatory Planning and Review

Under Executive Order 12866, (58 FR 51735 (October 4, 1993)) the Agency must determine whether the regulatory action is “significant” and therefore subject to OMB review and the requirements of the Executive Order. The Order defines “significant regulatory action” as one that is likely to result in a rule that may:

(1) Have an annual effect on the economy of $100 million or more or adversely affect in a material way the economy, a sector of the economy, productivity, competition, jobs, the environment, public health or safety, or State, local, or Tribal governments or communities;

(2) create a serious inconsistency or otherwise interfere with an action taken or planned by another agency;

(3) materially alter the budgetary impact of entitlements, grants, user fees, or loan programs or the rights and obligations of recipients thereof; or

(4) raise novel legal or policy issues arising out of legal mandates, the President's priorities, or the principles set forth in the Executive Order.

It has been determined that this final rule is not a “significant regulatory action” under the terms of Executive Order 12866 and is therefore not subject to OMB review.

B. Paperwork Reduction Act

This action does not impose any new information collection burden under the provisions of the Paperwork Reduction Act, 44 U.S.C. 3501 et.seq. This final rule merely clarifies the way the 10 ppb MCL for arsenic is expressed in regulatory text.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations are listed in 40 CFR part 9 and 48 CFR chapter 15.

C. Regulatory Flexibility Act

The Regulatory Flexibility Act (RFA) generally requires an agency to prepare a regulatory flexibility analysis of any rule subject to notice and comment rulemaking requirements under the Administrative Procedure Act or any other statute unless the Agency certifies that the rule will not have a significant economic impact on a substantial number of small entities. Small entities include small businesses, small organizations, and small government jurisdictions.

The RFA provides default definitions for each type of small entity. It also authorizes an agency to use alternative definitions for each category of small entity, “which are appropriate to the activities of the agency” after proposing the alternative definition(s) in the Federal Register and taking comment. 5 U.S.C. 601(3)—(5). In addition to the above, to establish an alternative small business definition, agencies must consult with the Small Business Administration's (SBA's) Chief Counsel for Advocacy.

For purposes of assessing the impacts of today's final rule on small entities, EPA considered small entities to be public water systems serving 10,000 or fewer persons. This is the cut-off level specified by Congress in the 1996 Amendments to the Safe Drinking Water Act for small system flexibility provisions. In accordance with the RFA requirements, EPA proposed using this alternative definition in the Federal Register, (63 FR 7620, February 13, 1998), requested public comment, consulted with the Small Business Administration (SBA), and expressed its intention to use the alternative definition for regulatory flexibility assessments under the RFA for all future drinking water regulations in the Consumer Confidence Reports regulation (63 FR 44511, August 19, 1998). As stated in that final rule, the alternative definition would be applied to this regulation.

This final rule imposes no cost on any entities over and above those imposed by the final arsenic rule, because that rule was developed, costed, and evaluated as 10 ppb. This final rule merely clarifies the way the 10 ppb MCL is expressed in regulatory text. Therefore, after considering the economic impacts of today's final rule on small entities, I certify that this action will not have a significant economic impact on a substantial number of small entities.

D. Unfunded Mandates Reform Act

Title II of the Unfunded Mandates Reform Act of 1995 (UMRA), Public Law 104-4, establishes requirements for Federal agencies to assess the effects of their regulatory actions on State, local, and Tribal governments and the private sector. Under section 202 of the UMRA, EPA generally must prepare a written statement, including a cost-benefit analysis, for proposed and final rules with “Federal mandates” that may result in expenditures to State, local, and Tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted.

Before EPA establishes any regulatory requirements that may significantly or uniquely affect small governments, including Tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

Today's final rule contains no Federal mandates (under the regulatory provisions of Title II of the UMRA) for State, local, or Tribal governments or the private sector. This final rule imposes no enforceable duty on any State, local or Tribal governments or the private sector. This final rule would not change the costs to State, local, or Tribal governments as estimated in the final arsenic rule, because that rule was developed, costed, and evaluated as 10 ppb, and this final rule merely clarifies the way the 10 ppb MCL is expressed in regulatory text. Thus, today's final rule is not subject to the requirements of sections 202 and 205 of the UMRA.

For the same reason, EPA has determined that this final rule contains no regulatory requirements that might significantly or uniquely affect small governments. Thus, today's final rule is not subject to the requirements of section 203 of the UMRA.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This final rule does not have Federalism implications. It will not have substantial direct effects on the States, on the relationship between the national government and the States, or on the distribution of power and responsibilities among the various levels of government, as specified in Executive Order 13132. There is no cost to State and local governments, and this final rule does not preempt State law. This final rule imposes no cost on any State, or local governments over and above those imposed by the final arsenic rule because that rule was developed, costed, and evaluated as 10 ppb. This final rule merely clarifies the way the 10 ppb MCL is expressed in regulatory text. Thus, Executive Order 13132 does not apply to this rule. In the spirit of Executive Order 13132, and consistent with EPA policy to promote communications between EPA and State and local governments, EPA specifically solicited comment on the proposed rule from State and local officials. EPA received no comment on Federalism issues from State or local officials.

F. Executive Order 13175: Consultation and Coordination With Indian Tribal Governments

Executive Order 13175, entitled “Consultation and Coordination with Indian Tribal Governments” (65 FR 67249, (November 9, 2000)), requires EPA to develop an accountable process to ensure “meaningful and timely input by tribal officials in the development of regulatory policies that have tribal implications.” “Policies that have tribal implications” is defined in the Executive Order to include regulations that have “substantial direct effects on one or more Indian tribes, on the relationship between the Federal Government and the Indian tribes, or on the distribution of power and responsibilities between the Federal government and Indian tribes.”

This final rule does not have Tribal implications. It will not have substantial direct effects on Tribal governments, on the relationship between the Federal Government and Indian tribes, or on the distribution of power and responsibilities between the Federal Government and Indian tribes, as specified in Executive Order 13175. There is no cost to Tribal governments, and this final rule does not preempt Tribal law. This final rule imposes no cost on any Tribal government over and above those imposed by the final arsenic rule because that rule was developed, costed and evaluated as 10 ppb. This final rule merely clarifies the way the 10 ppb MCL is expressed in regulatory text. Thus, Executive Order 13175 does not apply to this rule. In the spirit of Executive Order 13175, and consistent with EPA policy to promote communications between EPA and Tribal governments, EPA specifically solicited comment on the proposed rule from Tribal officials. EPA received no comment from Tribal officials.

G. Executive Order 13045: Protection of Children From Environmental Health Risks and Safety Risks

Executive Order 13045: “Protection of Children from Environmental Health Risks and Safety Risks” (62 FR 19885, April 23, 1997) applies to any rule that: (1) is determined to be economically significant as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This final rule is not subject to Executive Order 13045 because it is not economically significant as defined in Executive Order 12866, and because it does not concern an environmental health or safety risk that EPA has reason to believe may have a disproportionate effect on children. This final rule merely clarifies the way the 10 ppb MCL is expressed in regulatory text.

H. Executive Order 13211: Actions That Significantly Affect Energy Supply, Distribution, or Use

This final rule is not subject to Executive Order 13211, “Actions Concerning Regulations That Significantly Affect Energy Supply, Distribution, or Use” (66 FR 28355 (May 22, 2001)) because it is not a significant regulatory action under Executive Order 12866.

I. National Technology Transfer and Advancement Act

As noted in the December 2002 proposed rule, section 12(d) of the National Technology Transfer and Advancement Act of 1995 (NTTAA), Public Law 104-113, section 12(d) (15 U.S.C. 272 note), directs EPA to use voluntary consensus standards in its regulatory activities unless to do so would be inconsistent with applicable law or otherwise impractical. Voluntary consensus standards are technical standards (e.g., material specifications, test methods, sampling procedures, and business practices) that are developed or adopted by voluntary consensus standards bodies. The NTTAA directs EPA to provide Congress, through OMB, explanations when the Agency decides not to use available and applicable voluntary consensus standards.

This action does not involve technical standards. Therefore, EPA did not consider the use of any voluntary consensus standards.

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective on April 24, 2003.

VI. References

EPA 2002a “Calculation of Compliance for the New Arsenic MCL”, Cynthia C. Dougherty memorandum, January 25, 2002.

EPA 2002b “Implementation Guidance for the Arsenic Rule”, EPA16-K-02-018, August 2002, Section I-A.4, and Figure II-1.

EPA 2002c “Arsenic and Clarifications to Compliance and New Source Contaminants Monitoring”, Albuquerque, New Mexico, April 15-16, 2002, pp. 8-9.

List of Subjects for 40 CFR Part 141

Environmental protection, Chemicals, Indians-lands, Intergovernmental relations, Radiation protection, Reporting and recordkeeping requirements, Water supply.

Dated: March 19, 2003.
Christine Todd Whitman,
Administrator.

For the reasons set out in the preamble, title 40, chapter 1 of the Code of Federal Regulations is amended as follows:

PART 141—NATIONAL PRIMARY DRINKING WATER REGULATIONS

1. The authority citation for part 141 continues to read as follows:

Authority: 42 U.S.C. 300f, 300g-1, 300g-2, 300g-3, 300g-4, 300g-5, 300g-6, 300j-4, 300j-9, and 300j-11.

2. Section 141.23 is amended:

a. By revising the entry for arsenic in the table in (a)(4)(i).

b. By revising footnote 15 to the table in (k)(1).

The revisions read as follows:

§ 141.23 Inorganic chemical sampling and analytical requirements.

* * * * *

(a) * * *

(4) * * *

(i) * * *

Detection Limits for Inorganic Contaminants
Contaminant | MCL (mg/l) | Methodology | Detection limit (mg/1)
* * * * * * *
Arsenic | 0.010 ⁶ | Atomic Absorption; Furnace | 0.001
|  | Atomic Absorption; Platform—Stabilized Temperature | 0.0005 ⁷
|  | Atomic Absorption; Gaseous Hydride | 0.001
|  | ICP-Mass Spectrometry | 0.0014 ⁸
* * * * * * *
⁶ The value for arsenic is effective January 23, 2006. Until then, the MCL is 0.05 mg/L.
⁷ The MDL reported for EPA Method 200.9 (Atomic Absorption; Platform—Stabilized Temperature) was determined using a 2x concentration step during sample digestion. The MDL determined for samples analyzed using direct analyses (i.e., no sample digestion) will be higher. Using multiple depositions, EPA 200.9 is capable of obtaining MDL of 0.0001 mg/L.
⁸ Using selective ion monitoring, EPA Method 200.8 (ICP-MS) is capable of obtaining a MDL of 0.0001 mg/L.

* * * * *

(k) * * *

(1) * * *

¹⁵ Starting January 23, 2006, analytical methods using the ICP-AES technology, may not be used because the detection limits for these methods are 0.008 mg/L or higher. This restriction means that the two ICP-AES methods (EPA Method 200.7 and SM 3120 B) approved for use for the MCL of 0.05 mg/L may not be used for compliance determinations for the revised MCL of 0.010 mg/L. However, prior to January 23, 2006, systems may have compliance samples analyzed with these less sensitive methods.

* * * * *

3. Section 141.62(b) is amended by revising the entry “(16)” for arsenic in the table to read as follows:

§ 141.62 Maximum contaminant levels for inorganic contaminants.

* * * * *

(b) * * *

Contaminant | MCL (mg/l)
* * * * *
(16) Arsenic | 0.010
* * * * *

Subpart O—[Amended]

4. Amend § 141.154 by revising paragraphs (b) introductory text and (f) to read as follows:

§ 141.154 Required additional health information.

* * * * *

(b) Ending in the report due by July 1, 2001, a system which detects arsenic at levels above 0.025 mg/L, but below the 0.05 mg/L, and beginning in the report due by July 1, 2002, a system that detects arsenic above 0.005 mg/L and up to and including 0.010 mg/L:

* * * * *

(f) Beginning in the report due by July 1, 2002, and ending January 22, 2006, a community water system that detects arsenic above 0.010 mg/L and up to and including 0.05 mg/L must include the arsenic health effects language prescribed by Appendix A to Subpart O of this part.

5. Amend Appendix A to Subpart O by revising the entry for arsenic under “Inorganic contaminants:” to read as follows:

Appendix A to Subpart O—Regulated Contaminants
Contaminant (units) | Traditional MCL in mg/L | To convert for CCR, multiply by | MCL in CCR units | MCLG | Major sources in drinking water | Health effects language
* * * * * * *
Inorganic contaminants
* * * * * * *
Arsenic (ppb) | ¹ 0.010 | 1000 | ¹ 10. | ¹ 0 | Erosion of natural deposits; Runoff from orchards; Runoff from glass and electronics production wastes | Some people who drink water containing arsenic in excess of the MCL over many years could experience skin damage or problems with their circulatory system, and may have an increased risk of getting cancer.
* * * * * * *
¹ These arsenic values are effective January 23, 2006. Until then, the MCL is 0.05 mg/L and there is no MCLG.

Subpart Q—[Amended]

6. Amend Appendix B to Subpart Q by revising entry “9. Arsenic” under “C. Inorganic Chemicals (IOCs)”, to read as follows:

Appendix B to Subpart Q of Part 141—Standard Health Effects Language for Public Notification
Contaminant | MCLG ¹ mg/L | MCL ² mg/L | Standard health effects language for public notification
* * * * * * *
9. Arsenic ¹¹ | 0 | 0.010 | Some people who drink water containing arsenic in excess of the MCL over many years could experience skin damage or problems with their circulatory system, and may have an increased risk of getting cancer.
* * * * * * *
Appendix B—Endnotes
1. MCLG—Maximum contaminant level goal.
2. MCL—Maximum contaminant level.
* * * * * * *

11. These arsenic values are effective January 23, 2006. Until then, the MCL is 0.05 mg/L and there is no MCLG.

* * * * *

[FR Doc. 03-7048 Filed 3-24-03; 8:45 am]

BILLING CODE 6560-50-P